DEPARTMENT OF TRANSPORTATION

Federal Aviation Administration

14 CFR Part 39

[Docket No. FAA-2012-1087; Directorate Identifier 2009-SW-32-AD]

RIN 2120-AA64

Airworthiness Directives; Eurocopter France Helicopters

AGENCY: Federal Aviation Administration (FAA), DOT.

ACTION: Notice of proposed rulemaking (NPRM).

SUMMARY: We propose to adopt a new airworthiness directive (AD) for Eurocopter France (ECF) Model AS332C, L, and L1 helicopters to require an initial and repetitive inspections of the outer skin, butt strap, and fuselage frame for a crack and modification of the helicopter. This proposed AD is prompted by an AD issued by the European Aviation Safety Agency (EASA), which is the Technical Agent for the Member States of the European Union, which states that a crack was discovered in a fuselage frame during a daily check. The proposed actions are intended to detect a crack, to prevent loss of airframe structural integrity and subsequent loss of control of the helicopter.

DATES: We must receive comments on this proposed AD by December 17, 2012.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket: You may examine the AD docket on the Internet at http://www.regulations.gov or in person at the Docket Operations Office between 9 a.m. and 5 p.m., Monday through Friday, except Federal holidays. The AD docket contains this proposed AD, the economic evaluation, any comments received, and other information. The street address for the Docket Operations Office (telephone 800-647-5527) is in the ADDRESSES section. Comments will be available in the AD docket shortly after receipt.

For service information identified in this proposed AD, contact American Eurocopter Corporation, 2701 Forum Drive, Grand Prairie, Texas 75053-4005; telephone (800) 232-0323; fax (972) 641-3710; or at http://www.eurocopter.com. You may review the referenced service information at the FAA, Office of the Regional Counsel, Southwest Region, 2601 Meacham Blvd., Room 663, Fort Worth, Texas 76137.

FOR FURTHER INFORMATION CONTACT: Gary Roach, Aviation Safety Engineer, Regulations and Policy Group, Rotorcraft Directorate, FAA, 2601 Meacham Blvd., Fort Worth, Texas 76137; telephone (817) 222-5110; email gary.b.roach@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

EASA has issued EASA AD No. 2008-0035-E, dated February 21, 2008, to correct an unsafe condition for ECF Model AS 332 C, C1, L, and L1 helicopters.

The EASA AD states that a crack was discovered on an ECF Model AS332L helicopter in fuselage frame 5295, which has plates and angles assembled by riveting that corresponds to the first generation frame (before modification (MOD) 0722907). The crack in the frame was found because of a crack in the outer skin and in the butt strap where the rail of the main gear box (MGB) sliding cowling is attached to the frame. You may obtain further information by examining the EASA AD and any related service information in the AD docket.

FAA's Determination

These helicopters have been approved by the aviation authority of France and are approved for operation in the United States. Pursuant to our bilateral agreement with France, EASA, its technical representative, has notified us of the unsafe condition described in its AD. We are proposing this AD because we evaluated all known relevant information and determined that an unsafe condition is likely to exist or develop on other products of the same type design.

Related Service Information

Eurocopter has issued Alert Service Bulletin No. 05.00.76, Revision 0, dated February 20, 2008 (ASB), which specifies checking for a crack on the outside of the helicopter, on the skin and the butt strap near the sliding cowling rail attachment. If a crack is found in the outer skin or butt strap, the ASB specifies visually checking for a crack in Frame 5295. The ASB specifies doing MOD 0726478R2, which consists of cutting out a section of the sliding cowling rails. This cut-out exposes the splice near the rail attachment holes, making it easier to detect a crack in the frame during the 10-hour repetitive inspection and thus reducing the risks of a crack going undetected in Frame 5295. Also, the ASB specifies contacting the manufacturer for the “appropriate repair sheet according to how the crack is situated” if there is a crack in Area 1 of Frame 5295. EASA classified this ASB as mandatory and issued AD No. 2008-0035-E, dated February 21, 2008, to ensure the continued airworthiness of these helicopters.

Proposed AD Requirements

This proposed AD would require compliance with specified portions of the manufacturer's service bulletin including:

• Within 10 hours time-in-service (TIS) for helicopters that have 8,800 or more hours TIS or before or upon reaching 8,810 hours TIS for helicopters that have less than 8,800 hours TIS, and thereafter at intervals not to exceed 10 hours TIS, visually inspect for a crack in the outer skin and the butt strap in the sliding cowling right-hand and left-hand rail attachment areas on Frame 5295.

○ If there is a crack in the outer skin or in the butt strap, before further flight, inspect for a crack in Frame 5295.

○ If there is a crack in the outer skin, butt strap, or Frame 5295, repair the part before further flight.

• Within 300 hours TIS, modify each helicopter that has 8,800 or more hours TIS by doing MOD 0726478R2 on the sliding cowling rails and shims in the attachment areas on Frame 5295.

Differences Between This Proposed AD and the EASA AD

This proposed AD requires you to repair Frame 5295 before further flight rather than contacting the manufacturer. This proposal refers to a check as an inspection to be performed by a mechanic versus a check that a pilot can do if specifically allowed by the AD. This proposal also does not list the Model AS332C1 in the applicability because this model is not type certificated in the U.S. This proposed AD also does not allow further flight with the outer skin or butt strap cracked unless it is a ferry flight to a repair facility.

Costs of Compliance

We estimate that this proposed AD would affect 5 helicopters of U.S. Registry. We estimate that it would take about 4.25 work-hours per helicopter to initially inspect for a crack and to modify the MGB sliding cowling rails. Each 10-hour repetitive inspection would take about 0.25 work-hour. The average labor rate is $85 per work-hour and required parts would cost about $1,793 per helicopter. Based on these figures, we estimate the cost of the proposed AD on U.S. operators would be $17,145 or $3,429 per helicopter, assuming 60 repetitive inspections would be performed each year and assuming the entire fleet is modified and no cracks are found.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by Reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Eurocopter France: Docket No. FAA-2012-1087; Directorate Identifier 2009-SW-32-AD.

(a) Applicability

This AD applies to all Model AS332C, L, and L1 helicopters without modification (MOD) 0722907, except helicopters with serial numbers 2078 and 2102, certificated in any category.

(b) Unsafe Condition

This AD defines the unsafe condition as a crack in the outer skin, butt strap, or fuselage frame, which could result in loss of airframe structural integrity, and subsequent loss of control of the helicopter.

(c) Compliance

You are responsible for performing each action required by this AD within the specified compliance time unless it has already been accomplished prior to that time.

(d) Required Actions

(1) Within 10 hours time-in-service (TIS) for helicopters that have 8,800 or more hours TIS or before or upon reaching 8,810 hours TIS for helicopters that have less than 8,800 hours TIS, and thereafter at intervals not to exceed 10 hours TIS, visually inspect for a crack on the outer skin and the butt strap in the sliding cowling right-hand and left-hand rail attachment areas on Frame 5295 as shown in Figure 2 of Eurocopter Alert Service Bulletin No. 05.00.76, Revision 0, dated February 20, 2008 (ASB).

(i) If there is a crack in the outer skin or in the butt strap per paragraph (d)(1) of this AD, before further flight, inspect for a crack in Frame 5295 in the areas shown in Figure 3, Area 1, and Figure 4, of the ASB.

(ii) If there is a crack in the outer skin, the butt strap, or in Frame 5295 in the areas inspected as required by this AD, before further flight, repair the part in accordance with a method approved by the FAA.

(2) Within 300 hours TIS, for each helicopter that has 8,800 or more hours TIS, modify the sliding cowling rails and shims in the attachment areas on Frame 5295 (corresponds to MOD 0726478R2), as depicted in Figure 5 and by following the Accomplishment Instructions, paragraph 2.B.3., of the ASB.

(e) Special Flight Permit

A special flight permit is permitted for a helicopter with a crack in the outer skin or butt strap to operate the helicopter to a location where the requirements of this AD can be accomplished. A special flight permit is not permitted for a helicopter with a crack in Frame 5295.

(f) Alternative Methods of Compliance (AMOC)

(1) The Manager, Safety Management Group, FAA, may approve AMOCs for this AD. Send your proposal to: Gary Roach, Aviation Safety Engineer, Regulations and Policy Group, Rotorcraft Directorate, FAA, 2601 Meacham Blvd., Fort Worth, Texas 76137; telephone (817) 222-5110; email gary.b.roach@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(g) Additional Information

The subject of this AD is addressed in European Aviation Safety Agency (France) AD No. 2008-0035-E, dated February 21, 2008.

(h) Subject

Joint Aircraft Service Component (JASC) Code: 5311, Fuselage, Main Frame.

Issued in Fort Worth, Texas, on October 2, 2012.
Kim Smith,
Manager, Rotorcraft Directorate, Aircraft Certification Service.

[FR Doc. 2012-25429 Filed 10-15-12; 8:45 am]

BILLING CODE 4910-13-P